DEPARTMENT OF DEFENSE

Department of the Air Force

[Docket ID USAF-2013-0016]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, as amended were submitted on February 25, 2013, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: February 28, 2013.
Aaron Siegel,
Alternate OSD Federal Register Liaison Officer, Department of Defense.

F036 AFPC E

System Name:

Disability Retirement Records (June 11, 1997, 62 FR 31793).

* * * * *

Changes:

* * * * *

System name:

Delete entry and replace with “Temporary Disability Retirement List (TDRL) Case Files.”

System location:

Delete entry and replace with “Headquarters Air Force Personnel Center (HQ AFPC), 550 C Street W, Suite 6, Randolph Air Force Base, TX 78150-4708.”

Categories of individuals covered by the system:

Delete entry and replace with “Air Force Active Duty, Reserve, and Air National Guard personnel who are placed on the Temporary Disability Retirement List.”

Categories of records in the system:

Delete entry and replace with “Name; Social Security Number (SSN); Department of Defense Identification number (DoD ID); date of separation; percentage of disability; Department of Veterans Affairs Condition Codes; disposition of the Physical Examination Board (PEB) (i.e., return to duty, permanent retirement, temporary retirement discharge with benefits, discharge without benefits, unfitting condition); combat relation of condition; date of birth; retirement processing records; separation processing records; medical evaluation board reports; physical evaluation board findings; medical reports from Department of Veterans Affairs and civilian medical facilities; appellate actions and reviews taken in the case; correspondence from and to the member; members of Congress; attorneys and other interested parties; and documents concerning the appointment of trustees for mentally incompetent service members.”

Authority for maintenance of the system:

Delete entry and replace with “10 U.S.C. 8013, Secretary of the Air Force; 10 U.S.C. Chapter 61, Retirement or Separation for Physical Disability; Department of Defense Directive (DoDD) 1332.18, Separation or Retirement for Physical Disability; DoD Instruction (DoDI) 1332.38, Physical Disability Evaluation; Air Force Policy Directive (AFPD) 36-32, Military Retirements and Separations; and Air Force Instruction (AFI) 36-3212, Physical Evaluation for Retention, Retirement and Separation; and E.O. 9397 (SSN), as amended.”

Purpose(s):

Delete entry and replace with “To maintain oversight of Air Force personnel placed on the Temporary Disability Retirement List (TDRL). Individuals remain on the TDRL until reevaluation and removal (discharged, permanently retired, or found fit for duty) or for five years, whichever comes first. The TDRL serves as a safeguard for both the member and the Air Force by delaying permanent disposition for those members whose conditions could improve or get worse, or where the ultimate disposition could change within a reasonable period of time. Records may also be used to respond to official inquiries concerning the disability evaluation proceedings of individuals.”

Routine uses of records maintained in the system, including categories of users and the purpose of such uses:

Delete entry and replace with “In addition to those disclosures generally permitted under 5 U.S.C. 552a(b) of the Privacy Act of 1974, as amended, records contained therein may specifically be disclosed outside the DoD as a routine use pursuant to 5 U.S.C. 552a(b)(3) as follows:

To the Department of Veterans Affairs in the performance of their duties relating to processing and adjudicating claims, benefits, and medical care.

The DoD Blanket Routine Uses published at the beginning of the Air Force's compilation of systems of records notices may apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974, as amended, or mentioned in this system of records notice.

”

* * * * *

Storage:

Delete entry and replace with “Paper records and/or electronic storage media.”

Retrievability:

Delete entry and replace with “Name, SSN and/or DoD ID number.”

Safeguards:

Delete entry and replace with “Records are accessed by the program manager or by person(s) responsible for servicing the record system in performance of their official duties that are properly screened and cleared for need-to-know. Paper records are stored in secured file cabinets in a locked building with controlled access entry requirements. System software uses Primary Key Infrastructure (PKI)/Common Access Card (CAC) authentication to lock out unauthorized access. Access to the building is controlled by Security Access Card.”

Retention and disposal:

Delete entry and replace with “Temporary paper and electronic records are retained for 30 days after individual is removed from the Temporary Disability Retirement List. Documents designated as permanent remain in the military personnel records system permanently and are retired with the master personnel record group. Paper records are destroyed by tearing into pieces, shredding, pulping, macerating or burning. Electronic records are destroyed by erasing, deleting, or overwriting.”

System manager(s) and address:

Delete entry and replace with “Assistant Deputy Chief of Staff for Personnel, Headquarters Air Force Personnel Center, Air Force Disability Division (HQ AFPC/DPFD), 550 C Street W, Suite 6, Randolph AFB TX 78150-4708.”

Notification procedure:

Delete entry and replace with “Individuals seeking to determine whether this system of records contains information on themselves should address written inquiries to the Assistant Deputy Chief of Staff for Personnel, Headquarters Air Force Personnel Center, Air Force Disability Division (HQ AFPC/DPFD), 550 C Street W, Suite 6, Randolph AFB TX 78150-4708.

For verification purposes, individual should provide their full name, SSN and/or DoD ID Number, any details which may assist in locating records, and their signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking to access records about themselves contained in this system should address written requests to the Assistant Deputy Chief of Staff for Personnel, Headquarters Air Force Personnel Center, Air Force Disability Division (HQ AFPC/DPFD), 550 C Street W, Suite 6, Randolph AFB TX 78150-4708.

For verification purposes, individuals should provide their full name, SSN and/or DoD ID Number, any details which may assist in locating records, and their signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Contesting record procedures:

Delete entry and replace with “The Air Force rules for accessing records, contesting contents, and appealing initial agency determinations are published in Air Force Instruction 33-332, Air Force Privacy Program; 32 CFR part 806b; or may be obtained from the system manager.”

Record source categories:

Delete entry and replace with “Military Personnel Data System (MilPDS); correspondence and forms generated in Air Force Disability Division (AF Form 356, Report of Findings of the Physical Evaluation Board; AF form 1180, Action of Physical Evaluation Board Findings and Recommended Disposition); medical treatment facilities (military, civilian, and Department of Veteran's Affairs); Department of Veterans Affairs Rating Boards; Department of Veterans Affairs Compensation and Pension Exams; servicing Military Personnel Section; Air Force Personnel Center Commander; individual whom the record pertains to; individual's commander; Judge Advocate General (JAG) officials; Defense Finance and Accounting Services officials; members of Congress, attorneys; and other interested parties.”

* * * * *

[FR Doc. 2013-05053 Filed 3-4-13; 8:45 am]

BILLING CODE 5001-06-P